DEPARTMENT OF HEALTH AND HUMAN SERVICES

National Institutes of Health

Office of the Director; Notice of Meeting

The Office of the Director, National Institutes of Health (NIH), announces a meeting of the NIH Blue Ribbon Panel on Conflict of Interest Policies, a working group of the Advisory Committee to the Director, NIH. The meeting is scheduled for March 1-2, 2004, beginning at 8:30 a.m. each day.

The meeting will be held at the NIH, 9000 Rockville Pike, Bethesda, Maryland, Building 31C, Conference Room 10. Attendance will be limited to space available. In the interest of security, NIH has instituted stringent procedures for entrance into the building by non-government employees. Persons without a government I.D. will need to show a photo I.D. and sign-in at the security desk upon entering the building.

On March 1 and until noon on March 2, the meeting will be open to the public. Sessions will include: Federal Conflict of Interest Policies; HHS Conflict of Interest Policies, NIH Conflict of Interest Policies and Procedures, and there will be time set aside for oral presentations by the public. Any person wishing to make a presentation should notify Charlene French, Office of Science Policy, National Institutes of Health, Building 1, Room 103, Bethesda, Maryland 20892, telephone 301-496-2122 by February 26, 2004 or by e-mail: blueribbonpanel@mail.nih.gov.

Oral comments will be limited to 5 minutes. Due to time constraints, only one representative from each organization will be allotted time or oral testimony. The number of speakers and the time allotment may also be limited by the number of presentations. The opportunity to speak will be based on a first come first served basis. All requests to present oral comments should include the name, address, telephone number, and business or professional affiliation of the interested party, and should indicate the areas of interest or issue to be addressed. Please provide, if possible, an electronic copy of your comments.

Any person attending the meeting who has not registered to speak in advance of the meeting will be allowed to make a brief oral statement during the time set aside for public comment, if time permits and at the discretion of the co-chairs.

Individuals who plan to attend the meeting and need special assistance, such as sign language interpretation or other reasonable accommodations, should notify Charlene French in advance of the meeting at the address listed earlier in this notice.

Dated: February 19, 2004.
LaVerne Stringfield,
Director, Office of Federal Advisory Committee Policy.

[FR Doc. 04-4528 Filed 2-26-04; 11:15 am]

BILLING CODE 4140-01-M